DEPARTMENT OF COMMERCE

International Trade Administration

[A-351-817; A-201-809]

Certain Cut-to-Length Carbon Steel Plate From Brazil and Mexico; Final Results of Antidumping Duty Expedited Sunset Reviews

AGENCY: Import Administration, International Trade Administration, Department of Commerce.

ACTION: Notice of final results of antidumping duty expedited sunset review: Certain cut-to-length carbon steel plate from Brazil and Mexico

SUMMARY: On September 1, 1999, the Department of Commerce (“the Department”) published the notice of initiation of sunset reviews of the antidumping duty orders on certain cut-to-length carbon steel plate (“cut-to-length plate”) from Brazil and Mexico. On the basis of notices of intent to participate and adequate substantive comments filed on behalf of domestic interested parties and inadequate response (in these cases, no response) from respondent interested parties, we determined to conduct expedited reviews. As a result of this review, we find that revocation of the antidumping duty orders would be likely to lead to continuation or recurrence of dumping at the levels listed below in the section entitled “Final Results of Reviews.”

EFFECTIVE DATE: April 6, 2000.

FOR FURTHER INFORMATION CONTACT: Mark D. Young, Import Administration, International Trade Administration, U.S. Department of Commerce, Washington, DC 20230; telephone: (202) 482-6397.

SUPPLEMENTARY INFORMATION:

Statute and Regulations

This review is being conducted pursuant to sections 751(c) and 752 of the Tariff Act of 1930, as amended (“the Act”). The Department's procedures for the conduct of sunset reviews are set forth in Procedures for Conducting Five-year (“Sunset”) Reviews of Antidumping and Countervailing Duty Orders, 63 FR 13516 (March 20, 1998) (“Sunset Regulations”) and 19 CFR part 351 (1999) in general. Guidance on methodological or analytical issues relevant to the Department's conduct of sunset reviews is set forth in the Department's Policy Bulletin 98:3—Policies Regarding the Conduct of Five-year (“Sunset”) Reviews of Antidumping and Countervailing Duty Orders; Policy Bulletin, 63 FR 18871 (April 16, 1998) (“Sunset Policy Bulletin”).

Background

On September 1, 1999, the Department published the notice of initiation of sunset reviews of the antidumping duty orders on cut-to-length plate from Brazil and Mexico (63 FR 47767). The Department received Notices of Intent to Participate on behalf of Bethlehem Steel Corporation and U.S. Steel Group, a unit of USX Corporation (“the domestic producers”), within the deadline specified in section 351.218(d)(1)(i) of the Sunset Regulations. The domestic producers claimed interested party status under section 771(9)(C) of the Act, as U.S. manufacturers of cut-to-length plate. We received a complete substantive response, in both the Brazilian and Mexican reviews, from the domestic producers on October 1, 1999, within the 30-day deadline specified in the Sunset Regulations under section 351.218(d)(3)(i). In their substantive responses, the domestic producers stated that they were the petitioners in the original investigations of cut-to-length plate from Brazil and Mexico. Furthermore, the domestic producers stated that they had participated in each subsequent segment of the cases. We did not receive a substantive response from any respondent interested party to these proceedings. As a result, pursuant to 751(c)(3)(B) of the Act and 19 CFR 351.218(e)(1)(ii)(C) of the Department's Regulations, the Department determined to conduct expedited, 120-day, reviews of these orders.

In accordance with section 751(c)(5)(C)(v) of the Act, the Department may treat a review as extraordinarily complicated if it is a review of a transition order (i.e., an order in effect on January 1, 1995). The reviews at issue concern transition orders within the meaning of section 751(c)(6)(C)(ii) of the Act. Therefore, the Department determined that the sunset reviews of the antidumping duty orders on cut-to-length plate from Brazil and Mexico are extraordinarily complicated and extended the time limit for completion of the final results of these reviews until not later than March 29, 2000, in accordance with section 751(c)(5)(B) of the Act. ¹

¹ See Extension of Time Limit for Final Results of Five-Year Reviews, 64 FR 71726 (December 22, 1999).

Scope of Review

The products covered by these antidumping duty orders constitute one “class or kind” of merchandise: Certain cut-to-length carbon steel plate. These products include hot-rolled carbon steel universal mill plates (i.e., flat-rolled products rolled on four faces or in a closed box pass, of a width exceeding 150 millimeters but not exceeding 1,250 millimeters and of a thickness of not less than 4 millimeters, not in coils and without patterns in relief), of rectangular shape, neither clad, plated nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the United States Harmonized Tariff Schedule (“USHTS”) under item numbers 7208.31.0000, 7208.32.0000, 7208.33.1000, 7208.33.5000, 7208.41.0000, 7208.42.0000, 7208.43.0000, 7208.90.0000, 7210.70.3000, 7210.90.9000, 7211.11.0000, 7211.12.0000, 7211.21.0000, 7211.22.0045, 7211.90.0000, 7212.40.1000, 7212.40.5000 and 7212.50.0000. Included in this review are flat-rolled products of non-rectangular cross-section where such cross-section is achieved subsequent to the rolling process (i.e., products which have been “worked after rolling”); for example, products which have been beveled or rounded at the edges. Excluded from this review is grade X-70 plate. These USHTS item numbers are provided for convenience and customs purposes. The Department's written description remains dispositive.

The Department has made one scope ruling on the subject merchandise from Brazil. The following product was determined to be within the scope of the order:

Product within scope | Manufacturer | Citation
Profile Slabs | Companhia Siderurgica Tubarao | 62 FR 30569, June 4, 1997.

These reviews cover all imports from all manufacturers and exporters of cut-to-length plate from Brazil and Mexico.

Analysis of Comments Received

All issues raised in these cases by parties to these sunset reviews are addressed in the “Issues and Decision Memorandum” (“Decision Memo”) from Jeffrey A. May, Director, Office of Policy, Import Administration, to Robert S. LaRussa, Assistant Secretary for Import Administration, dated March 29, 2000, which is hereby adopted by this notice. The issues discussed in the Decision Memo include the likelihood of continuation or recurrence of dumping and the magnitude of the margin likely to prevail were the orders revoked. Parties can find a complete discussion of all issues raised in these reviews and the corresponding recommendations in this public memorandum, which is on file in room B-099 of the Commerce Building.

In addition, a complete version of the Decision Memo can be accessed directly on the Web at www.ita.doc.gov/import_admin/records/frn/. The paper copy and electronic version of the Decision Memo are identical in content.

Final Results of Reviews

We determine that revocation of the antidumping duty orders on cut-to-length plate from Brazil and Mexico would be likely to lead to continuation or recurrence of dumping at the following percentage weighted-average margins:

Brazilian manufacturers/exporters | Margin (percent)
Usinas Siderurgicas de Minas Gerais S.A. (“USIMINAS”)/ Companhia Siderurgica Paulista (“COSIPA”) | ²42.08
All Others | 75.54

Mexican manufacturers/exporters | Margin (percent)
Altos Hornos de Mexico | 49.25
All Others | 49.25

This notice also serves as the only reminder to parties subject to administrative protective orders (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

² In light of USIMINAS” high level of ownership of COSIPA, common directors, and the fact the COSIPA is consolidated on USIMINAS” financial statements, the Department collapsed USIMINAS and COSIPA into one entity for the purpose of calculating their dumping margin in the most recent administrative review. See Certain Cut-to-Length Carbon Steel Plate from Brazil; Final Results of Antidumping Duty Administrative Review, 63 FR 12744 (March 16, 1998). Therefore, we are reporting one margin for these companies; see decision memo for further discussion.

We are issuing and publishing these results and notice in accordance with sections section 751(c), 752, and 777(i)(1) of the Act.

Dated: March 29, 2000.
Joseph A. Spetrini,
Acting Assistant Secretary for Import Administration.

[FR Doc. 00-8546 Filed 4-5-00; 8:45 am]

BILLING CODE 3510-DS-P